DEPARTMENT OF AGRICULTURE

Forest Service

Oil and Gas Leasing, Finger Lakes National Forest, Seneca and Schuyler Counties, NY

AGENCY: USDA Forest Service.

ACTION: Notice of intent to prepare an environmental impact statement.

SUMMARY: Proponents have requested the Bureau of Land Management Eastern States Office to offer for lease the Federal oil and gas resources found within the Finger Lakes National Forest. The Mineral Leasing Act for Acquired Lands (Act of August 7, 1947) requires U.S. Department of Agriculture Forest Service consent prior to the leasing of an acquired mineral estate in National Forest System lands. The Forest Service further has the right to specify terms and conditions under which a lease will be issued to protect the surface resources and to provide for their continued use for other program purposes. The BLM has requested consent from the Forest Service to lease these lands. The 1986 Finger Lakes National Forest Land and Resource Management Plan determined that these lands are administratively available for oil and gas leasing with certain stipulations.

The Forest Service and BLM have determined that an Environmental Impact Statement is necessary to assess the environmental impacts that may occur as a result of leasing Federal lands for the exploration, development and production of oil and gas on the Finger Lakes National Forest, and reaffirm the availability decision. The range of potential post-leasing impacts will be based on the Reasonable Foreseeable Development Scenario (RFDS).

The decision to be made by the Forest Service is whether or not to provide consent to the Bureau of Land Management to offer National Forest System lands for competitive oil and gas leasing, and identify any stipulations required for protection of surface resources and for access, construction, or use and protection of existing roads. If consent is given, the Bureau of Land Management will use the EIS to make leasing decision on Finger Lake National Forest and split estate lands.

DATES: Written comments concerning the scope of the analysis should be received by July 28, 2000 to ensure timely consideration. The Forest Service will also conduct one or more public scoping meetings regarding this leasing proposal. The public will be notified as to the date, time and location of these meetings as they are scheduled.

ADDRESSES: Please send written comments to: Martha Twarkins, District Ranger, Finger Lakes National Forest, 5218 State Route 414, Hector, New York 14841

FOR FURTHER INFORMATION CONTACT: Contact Martha Twarkins either by writing to her at the Finger Lakes National Forest, 5218 State Route 414, Hector, New York 14841 or by telephone at (607) 546-4470 Ext: 314 if you have questions about the project and the preparation of the EIS or if you would like to be on the mailing list for this project.

SUPPLEMENTARY INFORMATION: The project area is located within Seneca and Schuyler Counties of New York. It encompasses approximately 16,176 acres of the Finger Lakes National Forest. There are also private lands where the United States owns the mineral rights, except gold and silver (split estate land). These lands encompass 47.35 acres, more or less, and will also be considered for leasing and will be analyzed as part of the project area.

The RFDS includes a reasonable projection of post-lease oil and gas development for each alternative. This projection includes potential number of wells, production facilities and equipment, acres disturbed, and typical operations. These reasonable foreseeable post-leasing activities will be used to assess potential impacts associated with leasing Federal oil and gas resources on the Finger Lakes National Forest.

The 1986 Finger Lakes National Forest Land and Resource Management Plan determined that these public and private lands are administratively available for oil and gas leasing with certain stipulations. Typical restrictions found in the Forest Plan include no surface occupancy: (1) On open water, streams and riparian areas; (2) on wet, steep, and shallow soils; (3) on municipal watersheds; (4) on administrative sites; (5) on range; (6) on or within 200 feet of designated trails; (7) on developed recreational areas; (8) on Special Areas (Management Area 8.1); and (9) on lands within Management Area 9.2. There are no outstanding oil and gas mineral rights or mineral withdrawals.

Public participation has been and will be an integral component of the study process, and will be especially important at several points during the analysis. The first is during the scoping process. The Forest Service will be seeking information, comments and assistance from federal, state county and local agencies, individuals and organizations that may be interested in or affected by the proposed activities. Initial public scoping was held on March 3, 1999 and April 13, 1999, and an open house was held on May 18, 1999. Preliminary issues identified for analysis in the EIS include the potential effects on: (1) Threatened, endangered and sensitive species; including the Federally-listed Indiana bat, Henslow's sparrow, and grasshopper sparrow; (2) grazing; (3) surface and groundwater, including the cumulative effects to the Forest's watersheds; (4) heritage resources; (5) recreation opportunities; (6) visual quality; (7) noise; (8) air quality; (9) economic and social conditions; and (10) public safety.

Based on the results of scoping and the resource conditions within the project area, alternatives (including a no-action alternative) will be developed for the Draft EIS. There may be stipulations that require a minor amendment to the Forest Plan. The Draft EIS is expected to be filed with the U.S. Environmental Protection Agency (EPA) and be available for review in March 2001. At that time, EPA will publish a Notice of Availability of the Draft EIS in the Federal Register. The comment period on the Draft EIS will be 45 days from the date EPA's Notice of Availability appears in the Federal Register. The final EIS is anticipated in August 2001.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC, 435 U.S. 519, 553 (1978). Also, environmental objections that could be raised at the draft environmental impact stage, but are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that publics interested in this proposed action participate by the close of the 45 day comment period on the draft EIS, so that substantive comments and objections are made available to the Forest Service at a time when the agency can meaningfully consider and respond to them in the final EIS.

To assist the Forest Service in identifying and considering issues and concerns on the proposed action, comments should be as specific as possible. Interested parties may wish to refer to the Council on Environmental Quality Regulations for implementing the procedural provisions of the National Environmental Policy Act at 40 CFR 1503.3.

Lead and Cooperating Agencies: The USDA Forest Service, Finger Lakes National Forest is the lead agency for preparation of this document. The Bureau of Land Management is a cooperating agency on this project.

Responsible Officials: Paul K. Brewster, Forest Supervisor, Green Mountain and Finger Lake National Forests, is the responsible Forest Service official. James W. Dryden, Manager, Milwaukee Field Office, Bureau of Land Management is the responsible BLM official. In making the decisions, the responsible officials will consider the comments; responses; disclosure of environmental consequences; and applicable laws, regulations and policies. The responsible officials will state the rationale for the chosen alternative in the Records of Decision.

Dated: June 20, 2000.
Paul K. Brewster,
Forest Supervisor.

[FR Doc. 00-16172 Filed 6-26-00; 8:45 am]

BILLING CODE 3401-11-P